DEPARTMENT OF HOMELAND SECURITY

Federal Emergency Management Agency

[Docket ID FEMA-2016-0002; Internal Agency Docket No. FEMA-B-1653]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: November 16, 2016.
Roy E. Wright,
Deputy Associate Administrator for Insurance and Mitigation, Department of Homeland Security, Federal Emergency Management Agency.

State and county | Location and case No. | Chief executive officer of community | Community map repository | Online location of letter of map revision | Effective date of modification | Community No.
Arizona:
Pima | City of Tucson (15-09-2903P) | The Honorable Jonathan Rothschild, Mayor, City of Tucson, City Hall, 255 West Alameda Street, 10th Floor, Tucson, AZ 85701 | Planning and Development Services, 201 North Stone Avenue, 1st Floor, Tucson, AZ 85701 | http://www.msc.fema.gov/lomc | Nov. 9, 2016 | 040076
Pima | City of Tucson (16-09-0706P) | The Honorable Jonathan Rothschild, Mayor, City of Tucson, City Hall, 255 West Alameda Street, 10th Floor, Tucson, AZ 85701 | Planning and Development Services, 201 North Stone Avenue, 1st Floor, Tucson, AZ 85701 | http://www.msc.fema.gov/lomc | Dec. 14, 2016 | 040076
Pima | Town of Marana (15-09-2320P) | The Honorable Ed Honea, Mayor, Town of Marana, 11555 West Civic Center Drive, Marana, AZ 85653 | Pima County Flood Control District, 201 North Stone Avenue, 9th Floor, Tucson, AZ 85701 | http://www.msc.fema.gov/lomc | Nov. 9, 2016 | 040118
California:
Los Angeles | City of Los Angeles (16-09-0471P) | The Honorable Eric Garcetti, Mayor, City of Los Angeles, 200 North Spring Street, Room 303, Los Angeles, CA 90012 | Department of Public Works, Bureau of Engineering, 1149 South Broadway Suite 700, Los Angeles, CA 90015 | http://www.msc.fema.gov/lomc | Nov. 2, 2016 | 060137
Los Angeles | Unincorporated areas of Los Angeles County (16-09-0471P) | The Honorable Hilda L. Solis, Chair, Board of Supervisors, Los Angeles County, Kenneth Hahn Hall of Administration, 500 West Temple Street, Room 856, Los Angeles, CA 90012 | County of Los Angeles Department of Public Works, Annex Building, 900 South Fremont Avenue, 3rd Floor, Alhambra, CA 91803 | http://www.msc.fema.gov/lomc | Nov. 2, 2016 | 065043
Napa | Town of Yountville (16-09-2592X) | The Honorable John Dunbar, Mayor, Town of Yountville, 6550 Yount Street, Yountville, CA 94599 | Town Hall, 6550 Yount Street, Yountville, CA 94599 | http://www.msc.fema.gov/lomc | Dec. 27, 2016 | 060209
Orange | City of Irvine (16-09-1326P) | The Honorable Steven S. Choi, Ph.D., Mayor, City of Irvine, 1 Civic Center Plaza, Irvine, CA 92606 | City Hall, 1 Civic Center Plaza, Irvine, CA 92606 | http://wwwmscfemagov/lomc | Dec. 9, 2016 | 060222
Orange | Unincorporated areas of Orange County (16-09-1326P) | The Honorable Lisa A. Bartlett, Chair, Board of Supervisors, Orange County, 333 West Santa Ana Boulevard, Santa Ana, CA 92701 | Orange County Flood Control Division, 300 North Flower Street, Santa Ana, CA 92703 | http://www.msc.fema.gov/lomc | Dec. 9, 2016 | 060212
Riverside | City of Moreno Valley (16-09-0597P) | The Honorable Yxstian Gutierrez, Mayor, City of Moreno Valley, 14177 Frederick Street, Moreno Valley, CA 92552 | City Hall, 14177 Frederick Street, Moreno Valley, CA 92552 | http://www.msc.fema.gov/lomc | Dec. 16, 2016 | 065074
Sacramento | City of Elk Grove (15-09-1862P) | The Honorable Gary Davis, Mayor, City of Elk Grove, City Hall, 8401 Laguna Palms Way, Elk Grove, CA 95758 | Public Works Department, 8401 Laguna Palms Way, Elk Grove, CA 95758 | http://www.msc.fema.gov/lomc | Nov. 10, 2016 | 060767
San Diego | City of San Diego (16-09-1837P) | The Honorable Kevin L. Faulconer, Mayor, City of San Diego, 202 C Street, 11th Floor, San Diego, CA 92101 | Development Services Department, 1222 1st Avenue, 3rd Floor, MS 301, San Diego, CA 92101 | http://www.msc.fema.gov/lomc | Dec. 1, 2016 | 060295
San Diego | Unincorporated areas of San Diego County (16-09-0707P) | The Honorable Ron Roberts, Chairman, Board of Supervisors, San Diego County, 1600 Pacific Highway, Room 335, San Diego, CA 92101 | Department of Public Works, Flood Control, 5510 Overland Avenue, Suite 410, San Diego, CA 92123 | http://www.msc.fema.gov/lomc | Nov. 14, 2016 | 060284
Shasta | Unincorporated areas of Shasta County (16-09-0884P) | The Honorable Pam Giacomini, Chair, Board of Supervisors, Shasta County, 1450 Court Street, Suite 308B, Redding, CA 96001 | Shasta County Public Works Department, 1855 Placer Street, Redding, CA 96001 | http://www.msc.fema.gov/lomc | Oct. 31, 2016 | 060358
Nevada:
Douglas | Unincorporated areas of Douglas County (16-09-1787X) | The Honorable Doug N. Johnson, Chairman, Board of Supervisors, Douglas County, P.O. Box 218, Minden, NV 89423 | Douglas County Public Works Department, 1615 8th Street, Minden, NV 89423 | http://www.msc.fema.gov/lomc | Dec. 15, 2016 | 320008

[FR Doc. 2016-28526 Filed 11-25-16; 8:45 am]

BILLING CODE 9110-12-P